ENVIRONMENTAL PROTECTION AGENCY

[FRL OP-OFA-018]

Environmental Impact Statements; Notice of Availability

Responsible Agency: Office of Federal Activities, General Information 202-564-5632 or https://www.epa.gov/nepa.

Weekly receipt of Environmental Impact Statements (EIS)

Filed May 16, 2022 10 a.m. EST Through May 23, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220073, Revised Final, USFS, CA, Lassen National Forest Over-Snow Vehicle (OSV) Use Designation, Review Period Ends: 06/27/2022, Contact: Kathleen Moore 530-252-6638.

Dated: May 23, 2022.
Cindy S. Barger,
Director, NEPA Compliance Division, Office of Federal Activities.

[FR Doc. 2022-11429 Filed 5-26-22; 8:45 am]

BILLING CODE 6560-50-P